DEPARTMENT OF LABOR

Employment and Training Administration

[TA-W-52,067]

Pall Corporation, Life Sciences Groups, Capsule Department, Ann Arbor, MI; Notice of Negative Determination Regarding Application for Reconsideration

By application of August 6, 2003, a petitioner requested administrative reconsideration of the Department's negative determination regarding eligibility to apply for Trade Adjustment Assistance (TAA), applicable to workers and former workers of the subject firm. The denial notice was signed on July 22, 2003, and published in the Federal Register on August 14, 2003 (68 FR 48645).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Pall Corporation, Life Sciences Groups, Capsule Department, Ann Arbor, Michigan was denied because criterion (1) was not met. Employment at the subject plant increased from 2001 to 2002, and January 2003 as compared to January 2002.

The petitioner suggests that the data indicating an increase in employment at the subject facility is mitigated by the fact that the company has reduced positions in “skilled worker jobs”, and that the total number of employees is buffered by “low wage level work'.

In following the directives of TAA legislation, the Department assesses whether worker groups are separately identifiable by product line. If workers at the subject facility are all engaged in the production of the same products, it is directed to consider the totals of all production workers. Thus the type of distinctions sought by the petitioner are not relevant to an investigation regarding group eligibility requirements for TAA.

In the request for reconsideration, the petitioner seems to imply that a shift of production to Puerto Rico on the part of the company constitutes a shift of production to a country included in Caribbean Basin Economic Recovery Act. The petitioner seems to conclude that it is this shift that is responsible for separations at the subject facility.

Puerto Rico is a U.S. Territory and therefore any movement of production to this region would not constitute a shift of production to a foreign source.

Conclusion

After review of the application and investigative findings, I conclude that there has been no error or misinterpretation of the law or of the facts which would justify reconsideration of the Department of Labor's prior decision. Accordingly, the application is denied.

Signed at Washington, DC this 17th day of October, 2003.
Elliott S. Kushner
Certifying Officer, Division of Trade Adjustment Assistance.

[FR Doc. 03-29261 Filed 11-21-03; 8:45 am]

BILLING CODE 4510-30-P